DEPARTMENT OF TRANSPORTATION

Federal Aviation Administration

14 CFR Part 71

[Docket No. FAA-2024-2591; Airspace Docket No. 24-AGL-26]

RIN 2120-AA66

Amendment of VOR Federal Airways V-38, V-133, and V-144, and Revocation of VOR Federal Airway V-214 in the Vicinity of Zanesville, OH

AGENCY: Federal Aviation Administration (FAA), DOT.

ACTION: Notice of proposed rulemaking (NPRM).

SUMMARY: This action proposes to amend Very High Frequency Omnidirectional Range (VOR) Federal Airways V-38, V-133, and V-144; and to revoke VOR Federal Airway V-214. The FAA is proposing this action due to the planned decommissioning of the VOR portion of the Zanesville, OH (ZZV), VOR/Distance Measuring Equipment (VOR/DME) navigational aid (NAVAID). The Zanesville VOR is being decommissioned in support of the FAA's VOR Minimum Operational Network (MON) program.

DATES: Comments must be received on or before January 23, 2025.

ADDRESSES: Send comments identified by FAA Docket No. FAA-2024-2591 and Airspace Docket No. 24-AGL-26 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal Airways are published in paragraph 6010(a) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the VOR portion of the Zanesville, OH, VOR/DME in October 2025. The Zanesville VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Zanesville VOR/DME is planned for decommissioning, the co-located DME portion of the NAVAID is being retained to support current and future NextGen PBN flight procedure requirements.

The VOR Federal Airways affected by the planned decommissioning of the Zanesville VOR are V-38, V-133, V-144, and V-214. With the planned decommissioning of the Zanesville VOR, the remaining ground-based NAVAID coverage in the area is insufficient to enable the continuity of the affected airways. As such, proposed modifications to V-38 would result in an existing gap in the airway being expanded; to V-133 would result in one of two existing gaps in the airway being expanded; to V-144 would result in a gap being created in the airway; and to V-214 would result in the airway being revoked.

To address the proposed amendments and revocation to the affected airways, instrument flight rules (IFR) traffic could use VOR Federal Airways V-44, V-75, V-115, V-117, and V-166 to navigate around the area affected by the planned decommissioning of the Zanesville VOR. Additionally, IFR pilots with Area Navigation (RNAV)-equipped aircraft could navigate using RNAV Route T-323 or point-to-point using the existing Fixes and waypoints that will remain in place to support continued operations though the affected area. Visual flight rules pilots who elect to navigate via the affected airways could also take advantage of the adjacent airways listed above, as well as the listed RNAV route and point-to-point navigation, if properly equipped. Lastly, all aircraft have the option to request and receive radar vectors from air traffic control to transit the affected area.

The Proposal

The FAA is proposing an amendment to 14 CFR part 71 by amending VOR Federal Airways V-38, V-133, and V-144, and revoking VOR Federal Airway V-262. The FAA is proposing this action due to the planned decommissioning of the VOR portion of the Zanesville, OH, VOR/DME NAVAID. The proposed airway actions are described below.

V-38: V-38 currently extends between the Moline, IL, VOR/DME and the intersection of the Fort Wayne, IN, VOR/Tactical Air Navigation (VORTAC) 091° and Rosewood, OH, VORTAC 334° radials (WINES Fix); and between the Appleton, OH, VORTAC and the Cape Charles, VA, VORTAC. The FAA proposes to remove the route segment between the Appleton VORTAC and the Parkersburg, WV, VOR/DME. As amended, the route would be changed to extend between the Moline VOR/DME and the intersection of the Fort Wayne VORTAC 091° and Rosewood VORTAC 334° radials (WINES Fix), and between the Parkersburg VOR/DME and the Cape Charles VORTAC.

V-133: V-133 currently extends between the intersection of the Charlotte, NC, VOR/DME 305° and Barretts Mountain, NC, VOR/DME 197° radials (LINCO Fix) and the Zanesville, OH, VOR/DME; between the Saginaw, MI, VOR/DME and the Houghton, MI, VOR/DME; and between the International Falls, MN, VOR/DME and the Red Lake, Ontario (ON), Canada, VOR. The airspace within Canada is excluded. The FAA proposes to remove the airway segment between the Charleston, WV, VOR/DME and the Zanesville VOR/DME. As amended, the airway would be changed to extend between the intersection of the Charlotte VOR/DME 305° and Barretts Mountain VOR/DME 197° radials (LINCO Fix) and the Charleston VOR/DME; between the Saginaw VOR/DME and the Houghton VOR/DME; and between the International Falls VOR/DME and the Red Lake, ON, Canada, VOR. The airspace within Canada would continue to be excluded.

V-144: V-144 currently extends between the Fort Wayne, IN, VORTAC and the Linden, VA, VORTAC. The FAA proposes to remove the airway segment between the Appleton, OH, VORTAC and the Morgantown, WV, VOR/DME. As amended, the airway would be changed to extend between the Fort Wayne VORTAC and the Appleton VORTAC, and between the Morgantown VOR/DME and the Linden VORTAC.

V-214: V-214 currently extends between the intersection of the Appleton, OH, VORTAC 236° and Zanesville, OH, VOR/DME 274° radials (GLOOM Fix) and the Bellaire, OH, VOR/DME. The FAA proposes to remove the airway in its entirety.

All NAVAID radials listed in the airway descriptions in the regulatory text of this notice of proposed rulemaking are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-38 [Amended]

From Moline, IL; INT Moline 082° and Peotone, IL, 281° radials; Peotone; Fort Wayne, IN; to INT Fort Wayne 091° and Rosewood, OH, 334° radials. From Parkersburg, WV; Elkins, WV; Gordonsville, VA; Richmond, VA; Harcum, VA; to Cape Charles, VA.

* * * * *

V-133 [Amended]

From INT Charlotte, NC, 305° and Barretts Mountain, NC, 197° radials; Barretts Mountain; to Charleston, WV. From Saginaw, MI; Traverse City, MI; Escanaba, MI; Sawyer, MI; to Houghton, MI. From International Falls, MN; to Red Lake, ON, Canada. The airspace within Canada is excluded.

* * * * *

V-144 [Amended]

From Fort Wayne, IN; to Appleton, OH. From Morgantown, WV; Kessel, WV; to Linden, VA.

* * * * *

V-214 [Removed]

* * * * *

Issued in Washington, DC, on December 3, 2024.
Richard Lee Parks,
Manager (A), Rules and Regulations Group.

[FR Doc. 2024-28724 Filed 12-6-24; 8:45 am]

BILLING CODE 4910-13-P